DEFENSE NUCLEAR FACILITIES SAFETY BOARD

Sunshine Act Meeting

Pursuant to the provision of the “Government in the Sunshine Act” (5 U.S.C. § 552b), notice is hereby given of the Defense Nuclear Facilities Safety Board's (Board) meeting described below.

TIME AND DATE OF MEETING: 9 a.m., February 13, 2001.

PLACE: The Defense Nuclear Facilities Safety Board, Public Hearing Room, 625 Indiana Avenue, NW, Suite 300, Washington, DC 20004.

STATUS: Open.

MATTERS TO BE CONSIDERED: The Defense Nuclear Facilities Safety Board (“Board”) will convene the fourteenth quarterly briefing regarding the status of progress of the activities associated with the Department of Energy's Implementation Plan for the Board's Recommendations 95-2, Integrated Safety Management (“ISM”). Specific topics will include the status of ISM implementation in the DOE complex and key actions at DOE Headquarters to fully implement ISM. The status of implementing Recommendation 98-1, Integrated Safety Management (Response to Issues Identified by the Office of Internal Oversight) will also be presented. Specific matters related to Recommendation 98-1 will include the status of the Corrective Action Management team, the corrective action tracking system, and the implementation of issues identified during the Recommendation 98-1 verification review. Finally, the status of implementing Recommendation 2000-2, Configuration Management, Vital Safety Systems, will be discussed. Topics will include the Recommendation 2000-2 Executive Team membership, roles and responsibilities, as well as the status of commitments in the Recommendation 2000-2 Implementation Plan.

CONTACT PERSON FOR MORE INFORMATION: Richard A. Azzaro, General Counsel, Defense Nuclear Facilities Safety Board, 625 Indiana Avenue, NW., Suite 700, Washington, DC 20004, (800) 788-4016. This is a toll-free number.

SUPPLEMENTARY INFORMATION: The Defense Nuclear Facilities Safety Board reserves its right to further schedule and otherwise regulate the course of this meeting, to recess, reconvene, postpone or adjourn the meeting, and otherwise exercise its authority under the Atomic Energy Act of 1954, as amended.

Dated: January 10, 2001.
John T. Conway,
Chairman.

[FR Doc. 01-1341 Filed 1-11-01; 2:12 pm]

BILLING CODE 3670-01-P